NUCLEAR REGULATORY COMMISSION

[Docket No. 50-313; NRC-2011-0076]

Entergy Operations, Inc.; Notice of Withdrawal of Application for Amendment to Facility Operating License

The U.S. Nuclear Regulatory Commission (NRC, the Commission) has granted the request of Entergy Operations, Inc. (the licensee), to withdraw its application dated August 24, 2010, and supplemented by letters dated November 12, 2010, and February 28, 2011, for a proposed amendment to Facility Operating License No. DPR-51 for the Arkansas Nuclear One, Unit 1, located in Pope County, Arkansas.

The proposed amendment would have revised several Technical Specifications (TSs) to permit a greater time period for one of the two required reactor coolant system cooling loops (commonly known as a Decay Heat Removal loop) to be inoperable. The affected TSs are applicable in lower Modes of Operation, Modes 4, 5, and 6.

The Commission had previously issued a Notice of Consideration of Issuance of Amendment published in the Federal Register on November 2, 2010 (75 FR 67401). However, by letter dated March 24, 2011, the licensee withdrew the proposed change.

For further details with respect to this action, see the application for amendment dated August 24, 2010, the supplemental letters dated November 12, 2010, and February 28, 2011, and the licensee's letter dated March 24, 2011, which withdrew the application for license amendment (Agencywide Documents Access and Management System (ADAMS) Accession Nos. ML102371014, ML103160175, ML110590738, and ML110840216, respectively). Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland this 30th day of March 2011.
For the Nuclear Regulatory Commission.
Nageswaran Kalyanam,
Project Manager, Plant Licensing Branch IV, Division of Operating Reactor Licensing, Office of Nuclear Reactor Regulation.

[FR Doc. 2011-8417 Filed 4-7-11; 8:45 am]

BILLING CODE 7590-01-P